DEPARTMENT OF LABOR

Employment and Training Administration

Workforce Innovation and Opportunity Act; Native American Employment and Training Council

AGENCY: Employment and Training Administration, U.S. Department of Labor.

ACTION: Notice of Meeting.

SUMMARY: Pursuant to Section 10 (a)(2) of the Federal Advisory Committee Act (FACA) (Pub. L. 92-463), as amended, and Section 166 (i)(4) of the Workforce Innovation and Opportunity Act (WIOA), notice is hereby given of the next meeting of the Native American Employment and Training Council (Council), as constituted under WIOA.

DATES: The meeting will begin at 9:00 a.m., (Eastern Daylight Time) on Tuesday, April 24, 2018, and continue until 5:00 p.m., that day. The meeting will reconvene at 9:00 a.m., on Wednesday, April 25, 2018 and adjourn at 5:00 p.m., that day. The period from 3:00 p.m., to 5:00 p.m., on April 24, 2018 is reserved for participation and comment by members of the public.

ADDRESSES: The meeting will be held at the U.S. Department of Labor, Frances Perkins Building, 200 Constitution Avenue NW, Room N-5437 A, B, & C, Washington, DC 20210.

SUPPLEMENTARY INFORMATION: Council members and members of the public are encouraged to arrive early to allow for security clearance into the Frances Perkins Building.

Security Instructions: Meeting participants should use the visitors' entrance to access the Frances Perkins Building, one block north of Constitution Avenue at 3rd and C Streets NW. For security purposes, meeting participants must:

1. Present a valid photo ID to receive a visitor badge.

2. Know the name of the event being attended: The meeting event is the Native American Employment and Training Council (NAETC).

Visitor badges are issued by the security officer at the visitor entrance located at 3rd and C Streets NW after the visitor proceeds through the security screening. When receiving a visitor badge, the security officer will retain the visitor's photo ID until the visitor badge is returned to the security desk. Laptops and other electronic devices may be inspected and logged for identification purposes. Due to limited parking options, DC Metro's Judiciary Square station is the easiest way to access the Frances Perkins Building.

The meeting will be open to the public.

Members of the public not present may submit a written statement by April 20, 2018, to be included in the record of the meeting. Statements are to be submitted to Athena R. Brown, Designated Federal Officer (DFO), U.S. Department of Labor, 200 Constitution Avenue NW, Room S-4209, Washington, DC 20210. Persons who need special accommodations should contact Craig Lewis at (202) 693-3384, at least two business days before the meeting. The formal agenda will focus on the following topics: (1) WIOA Implementation, including Performance Indicators; (2) Administrative and Financial Reporting; (3) Four-Year Strategic Planning; (4) Update on Public Law 102-477; (5) Council Expirations and Nominations Updates; (5) Census Updates; (6) Council and Workgroup Updates and Recommendations; (7) New Business and Next Steps; and (8) Public Comment.

FOR FURTHER INFORMATION CONTACT: Athena R. Brown, DFO, Division of Indian and Native American Programs, Employment and Training Administration, U.S. Department of Labor, Room S-4209, 200 Constitution Avenue NW, Washington, DC 20210. Telephone number (202) 693-3737 (VOICE) (this is not a toll-free number).

Rosemary Lahasky,
Deputy Assistant Secretary, Employment and Training Administration.

[FR Doc. 2018-07000 Filed 4-5-18; 8:45 am]

BILLING CODE 4501-FR-P